CONSUMER PRODUCT SAFETY COMMISSION

Sunshine Act Meetings

Federal Register Citation of Previous Announcement:

Vol. 76, No. 68, Friday, April 8, 2011, page 19752.

ANNOUNCED TIME AND DATE OF MEETING: Wednesday, April 13, 2011, 10 a.m.-11 a.m.

MATTER TO BE CONSIDERED: Decisional Matter: Toddler Beds—Final Rule Meeting Canceled.

For a recorded message containing the latest agenda information, call (301) 504-7948.

CONTACT PERSON FOR ADDITIONAL INFORMATION: Todd A. Stevenson, Office of the Secretary, 4330 East West Highway, Bethesda, MD 20814 (301) 504-7923.

Dated: April 12, 2011.
Todd A. Stevenson,
Secretary.

[FR Doc. 2011-9284 Filed 4-13-11; 4:15 pm]

BILLING CODE 6355-01-P